DEPARTMENT OF THE INTERIOR

National Park Service

[NPS-WASO-DCOSPOL-11327; 0004-SYP]

Meeting of the National Park System Advisory Board; November 28-29, 2012

AGENCY: National Park Service, Interior.

ACTION: Meeting notice.

SUMMARY: Notice is hereby given in accordance with the Federal Advisory Committee Act, 5 U.S.C. Appendix, and Parts 62 and 65 of title 36 of the Code of Federal Regulations, that the National Park System Advisory Board will meet November 28-29, 2012, in Fort Monroe, Virginia. The agenda will include the review of proposed actions regarding the National Historic Landmarks Program and the National Natural Landmarks Program. Interested parties are encouraged to submit written comments and recommendations that will be presented to the Board. Interested parties also may attend the board meeting and upon request may address the Board concerning an area's national significance.

DATES: Written comments regarding any proposed National Historic Landmarks matter or National Natural Landmarks matter listed in this notice will be accepted by the National Park Service until November 26, 2012. The Board will meet on November 28-29, 2012.

ADDRESSES: The meeting will be held at Fort Monroe National Monument in the Casemate Room of the Bay Breeze Conference Center, 490 Fenwick Road, Fort Monroe, Virginia 23651; telephone (757) 722-3678.

Agenda: On November 28, 2012, the Board will convene its business meeting at 8:30 a.m., and adjourn for the day at 5 p.m. The Board will reconvene at 8:30 a.m., on November 29, 2012, and adjourn at 2:30 p.m. During the course of the two days, the Board will be addressed by National Park Service Director Jonathan Jarvis; briefed by other National Park Service officials regarding education, leadership development and science; deliberate and make recommendations concerning National Historic Landmarks Program and National Natural Landmarks Program proposals; and receive status briefings on matters pending before committees of the Board. On the afternoon of November 29, 2012, the Board will tour Fort Monroe National Monument.

FOR FURTHER INFORMATION CONTACT: For information concerning the National Park System Advisory Board or to request to address the Board, contact Shirley Sears Smith, Office of Policy, National Park Service, 1201 I Street NW., 12th Floor, Washington, DC 20005, telephone (202) 354-3955, email Shirley_S_Smith@nps.gov. To submit a written statement specific to, or request information about, any National Historic Landmarks matter listed below, or for information about the National Historic Landmarks Program or National Historic Landmarks designation process and the effects of designation, contact J. Paul Loether, Chief, National Register of Historic Places and National Historic Landmarks Program, National Park Service, 1849 C Street NW. (2280), Washington, DC 20240, email Paul_Loether@nps.gov. To submit a written statement specific to, or request information about, any National Natural Landmarks matter listed below, or for information about the National Natural Landmarks Program or National Natural Landmarks designation process and the effects of designation, contact Dr. Margaret Brooks, Program Manager, National Natural Landmarks Program, National Park Service, 225 N. Commerce Park Loop, Tucson, Arizona 85745, email Margi_Brooks@nps.gov.

SUPPLEMENTARY INFORMATION: Matters concerning the National Historic Landmarks and National Natural Landmarks Program matters will be considered by the Board as follows:

A. National Historic Landmarks (NHL) Program

NHL Program matters will be considered at the morning session of the business meeting on November 28, 2012, during which the Board may consider the following:

Nominations for New NHL Designations

Alabama

• Edmund Pettus Bridge, Dallas County, AL.

Connecticut

• Harriet Beecher Stowe House, Hartford, CT.

Illinois

• Second Presbyterian Church, Chicago, IL.

Kentucky

• Camp Nelson Historic and Archeological District, Jessamine County, KY.

• George T. Stagg Distillery, Frankfort, KY.

Maine

• Camden Amphitheatre and Public Library, Camden, ME.

New Hampshire

• Epic of American Civilization Murals, Baker Library, Hanover, NH.

New Jersey

• Hinchliffe Stadium, Paterson, NJ.

New York

• Yaddo, Saratoga Springs, NY.

Oklahoma

• Honey Springs Battlefield, McIntosh and Muskogee Counties, OK.

Puerto Rico

• Casa Dra. Concha Meléndez Ramírez, San Juan, PR.

• Old San Juan Historic District (Distrito Histórico del Viejo San Juan), San Juan, PR.

Virginia

• Pear Valley, Eastville, VA.

Proposed Amendments to Existing NHL Designations.

• Ocean Drive Historic District, Newport, RI (updated documentation).

• Pennsylvania State Capitol Complex, Harrisburg, PA (boundary expansion and updated documentation).

C. National Natural Landmarks (NNL) Program

NNL Program matters will be considered at the morning session of the business meeting on November 28, 2012, during which the Board may consider the following:

Nominations for New NNL Designations

Georgia

• Wade Tract, Thomas County, GA.

Oregon

• Zumwalt Prairie, Wallowa County, OR.

Proposed Amendment to Existing NNL Designation

Colorado

• Garden Park Fossil Area, Fremont County, CO (boundary expansion).

The board meeting will be open to the public. The order of the agenda may be changed, if necessary, to accommodate travel schedules or for other reasons. Space and facilities to accommodate the public are limited and attendees will be accommodated on a first-come basis. Anyone may file with the Board a written statement concerning matters to be discussed. The Board also will permit attendees to address the Board, but may restrict the length of the presentations, as necessary to allow the Board to complete its agenda within the allotted time. Before including your address, telephone number, email address, or other personal identifying information in your comment, you should be aware that your entire comment—including your personal identifying information—may be made publicly available at any time. While you can ask us in your comment to withhold your personal identifying information from public review, we cannot guarantee that we will be able to do so.

Draft minutes of the meeting will be available for public inspection about 12 weeks after the meeting in the 12th floor conference room at 1201 I Street NW., Washington, DC 20005.

Dated: September 21, 2012.
Alma Ripps,
Acting Chief, Office of Policy.

[FR Doc. 2012-23812 Filed 9-26-12; 8:45 am]

BILLING CODE 4310-EE-P